INTERNATIONAL TRADE COMMISSION

[Investigation No. 337-TA-1311]

Certain Centrifuge Utility Platform and Falling Film Evaporator Systems and Components Thereof; Notice of a Commission Determination Not To Review an Initial Determination Amending the Notice of Investigation and Terminating the Investigation as to Respondent Rexford

AGENCY: U.S. International Trade Commission.

ACTION: Notice.

SUMMARY: Notice is hereby given that the U.S. International Trade Commission (“Commission”) has determined not to review an initial determination (“ID”) (Order No. 20) of the presiding administrative law judge (“ALJ”), amending the notice of investigation to properly reflect respondent Rexford Management, LLC's (“Rexford”) name and then terminating the investigation as to Rexford based on withdrawal of the complaint.

FOR FURTHER INFORMATION CONTACT: Benjamin S. Richards, Esq., Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on May 4, 2022. 87 FR 26372 (May 4, 2022). The complaint, as supplemented, alleged violations of section 337 of the Tariff Act of 1930, as amended, 19 U.S.C. 1337, in the importation into the United States, the sale for importation, or the sale within the United States after importation of certain centrifuge utility platform and falling film evaporator systems and components thereof by reason of infringement of claims 1, 10, and 14 of U.S. Patent No. 10,814,338; claims 1, 10, and 18 of U.S. Patent No. 11,014,098; and claims 1, 9, and 19 of U.S. Patent No. 10,899,728. Id. The complaint further alleged that a domestic industry exists. Id. The Commission's notice of investigation named fifteen respondents, including “Redford Management” of Los Angeles, CA. Id. at 26373. The Office of Unfair Import Investigations is also participating in the investigation. Id.

On July 7, 2022, complainant Apeks, LLC (“Apeks”) moved to terminate the investigation as to Rexford based on withdrawal of the allegations in the complaint specific to Rexford. On July 19, 2022, the ALJ issued Order No. 20, the subject ID, granting Apeks's motion. The ID finds that Apeks's motion complies with the Commission's rules and that there are no extraordinary circumstances that would preclude termination of the investigation as to Rexford.

Separately, the ID explains that OUII and Rexford both noted that Rexford was incorrectly identified as “Redford Management” in the notice of institution of this investigation. To correct that error, the ID also finds that the notice of investigation should be amended to replace “Redford Management” with “Rexford Management, LLC.”

No petitions for review of the ID were filed.

The Commission has determined not to review the subject ID.

The notice of institution of this investigation is amended to correctly identify Rexford by replacing “Redford Management” with “Rexford Management, LLC.” Rexford is hereby terminated from this investigation.

The Commission vote for this determination took place on August 4, 2022.

The authority for the Commission's determination is contained in section 337 of the Tariff Act of 1930, as amended (19 U.S.C. 1337), and in Part 210 of the Commission's Rules of Practice and Procedure (19 CFR part 210).

While temporary remote operating procedures are in place in response to COVID-19, the Office of the Secretary is not able to serve parties that have not retained counsel or otherwise provided a point of contact for electronic service. Accordingly, pursuant to Commission Rules 201.16(a) and 210.7(a)(1) (19 CFR 201.16(a), 210.7(a)(1)), the Commission orders that the Complainant(s) complete service for any party/parties without a method of electronic service noted on the attached Certificate of Service and shall file proof of service on the Electronic Document Information System (EDIS).

By order of the Commission.
Issued: August 4, 2022.
Katherine Hiner,
Acting Secretary to the Commission.

[FR Doc. 2022-17204 Filed 8-10-22; 8:45 am]

BILLING CODE 7020-02-P